DEPARTMENT OF ENERGY

Environmental Management Site-Specific Advisory Board, Idaho

AGENCY: Department of Energy.

ACTION: Notice of open meeting.

SUMMARY: This notice announces a meeting of the Environmental Management Site-Specific Advisory Board (EM SSAB), Idaho National Engineering and Environmental Laboratory (INEEL). Federal Advisory Committee Act (Pub. L. No. 92-463, 86 Stat. 770) requires that public notice of these meetings be announced in the Federal Register.

DATES: Tuesday, March 21, 2000, 8 a.m.-5:30 p.m.; Wednesday, March 22, 2000, 8 a.m.-5 p.m.

ADDRESSES: Ameritel Inn 645 Lindsay Boulevard, Idaho Falls, Idaho

FOR FURTHER INFORMATION CONTACT: Ms. Wendy Lowe, INEEL SSAB Facilitator Jason Associates Corporation, 477 Shoup Avenue, Suite 205, Idaho Falls, ID 83402, (208-522-1662) or visit the Board's Internet homepage at http://www.ida.net/users/cab; or contact Mr. Charles Rice, INEEL SSAB Chair, c/o Jason Associates Corporation

SUPPLEMENTARY INFORMATION: Purpose of the Board: The purpose of the Board is to make recommendations to DOE and its regulators in the areas of future use, cleanup levels, waste disposition and cleanup priorities at the INEEL.

Tentative Agenda

Presentations and discussions on the following:

• Finalize a recommendation on the Draft Idaho High-Level Waste and Facilities Disposition Environmental Impact Statement.

• Receive a presentation and finalize a recommendation on the INEEL Institutional plan.

• Finalize a recommendation on the future of the Waste Experimental Reduction Facility.

• Receive a presentation on the status of DOE's efforts regarding Pit 9 and the other pits and trenches at the Radioactive Waste Management Complex.

• Finalize a recommendation on how DOE should evaluate impacts on ecological health at the INEEL.

• Finalize a recommendation on stakeholder involvement in long-term stewardship planning.

• Receive a briefing on the INEEL Technical Library.

(Agenda topics may change up to the day of the meeting; please call the FOR FURTHER INFORMATION CONTACT in this notice for the current agenda or visit the Internet site.)

Public Participation: This meeting is open to the public. Written statements may be filed with the Board facilitator before or after the meeting. Individuals who wish to make oral presentations pertaining to agenda items should contact the Board Chair at the address or telephone number listed above. Requests must be received 5 days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. This notice is being less than 15 days before the date of the meeting due to programmatic issues that had to be resolved prior to publication.

Minutes: The minutes of this meeting will be available for public review and copying at the Freedom of Information Public Reading Room, 1E-190, Forrestal Building, 1000 Independence Avenue, SW, Washington, DC 20585 between 9 a.m. and 4 p.m., Monday-Friday, except Federal holidays. Minutes will also be available by writing to Charles M. Rice, INEEL CAB Chair, 477 Shoup Ave., Suite 205, Idaho Falls, Idaho 83402 or by calling the Board's facilitator at (208) 522-1662.

Issued at Washington, DC on March 6, 2000.
Rachel Samuel,
Deputy Advisory Committee Management Officer.

[FR Doc. 00-5941 Filed 3-9-00; 8:45 am]

BILLING CODE 6450-01-P